DEPARTMENT OF LABOR

Employment and Training Administration

Notice of Intent To Renew the Advisory Committee on Apprenticeship (ACA) Charter

AGENCY: Employment and Training Administration (ETA), Labor.

ACTION: Notice.

SUMMARY: The Secretary of Labor (Secretary) has determined that the renewal of the Advisory Committee on Apprenticeship (ACA or Committee) is necessary and in the public interest. The Department of Labor (DOL) intends to renew the ACA charter with revisions which are not intended to change the Committee's purpose or original intent. The revisions update the charter to ensure its closer alignment with the Department's current apprenticeship priorities.

DATES: The renewed ACA charter will be filed after this notice publishes.

FOR FURTHER INFORMATION CONTACT: For any questions concerning the Charter renewal, please contact John Ladd, OA Administrator and ACA DFO, at advisorycommitteeonapprenticeship@dol.gov, telephone (202) 693-2796 (this is not a toll-free number).

SUPPLEMENTARY INFORMATION: Registered Apprenticeship is a unique public private partnership that is highly dependent on the engagement and involvement of its stakeholders and partners for its ongoing operational effectiveness. Apart from the ACA, there is no single organization or group with the broad representation of labor, employers, and the public available to consider the complexities and relationship of apprenticeship activities to other training efforts or to provide advice on such matters to the Secretary. It is particularly important to have such perspectives as DOL considers the expansion of registered apprenticeship, fundamentally instilling a permanent culture of inclusion in our workforce. The ACA's insight and recommendations on the best ways to address critical apprenticeship issues to meet the emerging needs of industry, labor, and the public is critical. For these reasons, the Secretary has determined that the renewal of a national advisory committee on apprenticeship is necessary and in the public interest.

The current charter for the ACA will expire on May 19, 2023. The pending charter has been revised to ensure alignment with current DOL priorities in the following six sections: (1) Authority; (2) Objectives and Scope of Activities; (3) Description of Duties; (4) The Estimated Annual Operating Costs and Staff Years; (5) The Estimated Number and Frequency of Meetings; and (6) The Membership and Designation.

Summary of the Charter Changes

1. Authority was updated to reflect the recent change in H.R. 5961, which changed the placement of FACA in Title 5 of the U.S. Code.

2. The Objectives and Scope of Activities was updated to remove references to specific industry to broaden the ACA's focus, reflect evolving industrial priorities, and maximize the Department's ability to consider all industries.

3. The Description of Duties was updated to remove the requirement for an interim report to allow the ACA members the entire length of the term to address more complex issues, complete their work and develop a final report and supplemental recommendations as needed.

4. The Estimated Annual Operating Costs and Staff Years was updated to increase the estimated costs to be more reflective of the actual cost and the increase in staff and contractor resources needed for overall committee operation and travel. Further, the estimated operational costs range from $526,057.21-$471,057.21 and are contingent on the number of in-person meetings, and the number of ACA members requesting travel reimbursement. The increased costs also reflect the broader role ETA envisions for the ACA.

5. The Estimated Number and Frequency of Meetings was updated to provide clarity that in addition to the annual ACA meetings, there may be a need to convene additional meetings as determined by Secretarial priorities. ETA anticipates that many of these meetings will be outside of Washington, DC and will highlight specific issues that the ACA is addressing.

6. The Membership and Designation was updated to remove the requirement for one apprentice to serve as a voting member to be more inclusive and align with current practice to invite apprentices from different industries to participate in all public meetings throughout the membership term.

The ACA is being renewed in accordance with the provisions of the Federal Advisory Committee Act (FACA), as amended, 5 U.S.C. 10. The ACA is charged with providing advice and recommendations to the Secretary on a variety of apprenticeship issues. The ACA's duties include assembling, reviewing, and assessing information relating to accelerating the expansion of apprenticeship. In providing advice and recommendations to the Secretary, the ACA will hold regular meetings with agendas that are prepared with guidance provided by the Department; engage with a variety of stakeholders, to include site and field visits, as appropriate; review and provide feedback on research, policies, best practices, and industry and employment trends; and consult with experts and practitioners for information and expertise pertinent to Committee duties and priorities as needed.

The ACA will consist of a range of 27-30 voting members that represent labor, employers, and the public:

• Employers or Industry Associations

• Labor or Joint Labor-Management Organizations

• Members of the Public, that represent one of the following: State apprenticeship agencies/councils; State or local workforce development board; community-based organizations; career and technical education schools, or local educational agency; postsecondary education and training providers; apprenticeship intermediaries.

The ACA will be solely advisory in nature, and will consider testimony, reports, comments, research, evidence, and existing practices as appropriate to develop recommendations for inclusion in its final reports to the Secretary.

Members of the ACA serve without compensation, but will be allowed travel expenses, including per diem in lieu of subsistence, to the extent permitted by law for persons serving intermittently in the Government service (5 U.S.C. 5701-5707), consistent with the availability of funds. Each ACA member will serve at the pleasure of the Secretary for a specified term. The Secretary may also appoint members to fill any ACA vacancies for the unexpired portions of the term.

Brent Parton,
Acting Assistant Secretary for Employment and Training, Labor.

[FR Doc. 2023-09995 Filed 5-10-23; 8:45 am]

BILLING CODE 4510-FR-P